COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List services to be furnished by nonprofit agencies employing persons who are blind or have other severe disabilities.

DATES: Comments must be received on or before: June 27, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the proposed actions. If the Committee approves the proposed additions, the entities of the Federal government identified in the notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the government.

2. If approved, the action will result in authorizing small entities to furnish the services to the government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

End of Certification

The following services are proposed for addition to Procurement List for production by the nonprofit agencies listed:

Services

Service Type/Location: Custodial & Grounds Maintenance, Avery Street Building, Public Debt Facility, Parkersburg, West Virginia.

NPA: SW Resources, Inc., Parkersburg, West Virginia.

Contract Activity: TREAS-PUB DEBT, Parkersburg, West Virginia.

Service Type/Location: Custodial Services, Naval Air Station Whidbey Island, Oak Harbor, Washington.

NPA: New Leaf, Inc., Oak Harbor, Washington.

Contract Activity: Naval Facilities Engineering Command, Oak Harbor, Washington.

Service Type/Location: Food Service, Volk Field Air National Guard, Camp Douglas, Wisconsin.

NPA: Challenge Unlimited, Inc., Alton, Illinois.

Contract Activity: Iowa Air National Guard, Des Moines Iowa.

Service Type/Location: Medical Transcription, VA Medical Center, Building 36, Northport, New York.

NPA: National Telecommuting Institute, Inc., Boston, Massachusetts.

Contract Activity: VA Medical Center—Northport, Northport, New York.

Patrick Rowe,
Deputy Executive Director.

[FR Doc. 04-12162 Filed 5-27-04; 8:45 am]

BILLING CODE 6353-01-P